DEPARTMENT OF JUSTICE

Notice of Lodging of Consent Decree Under the Clean Air Act and the Emergency Planning and Community Right-To-Know Act

Under 28 CFR 50.7, notice is hereby given that on October 21, 2002, a proposed Consent Decree (“Consent Decree”) in United States v. Color Communications, Inc., Civil Action No. 99 C 4489, was lodged with the United States District Court for the Northern District of Illinois.

The United States' complaint in this action asserts claims against Color Communications, Inc. (“CCI”) for injunctive relief and civil penalties for violations of the Clean Air Act, 42 U.S.C. 7401 et seq. (“CAA”), and applicable provisions of a Federal Implementation Plan and a State Implementation Plan governing sources that emit volatile organic materials to the ambient air within the Chicago Metropolitan Area Ozone Non Attainment Area. The complaint also alleges that CCI failed to comply with the reporting requirements of the Emergency Planning and Community Right-to-Know Act, 42 U.S.C. 11001 et seq. (“EPCRA”) The State of Illinois intervened as a plaintiff in this action and asserted additional claims against CCI. Since the action was filed, CCI implemented measures that brought its facility into compliance with requirements that were the subject of this action. As a result, the relief provided under the proposed Decree addresses the alleged liability of CCI for civil penalties for past violations of applicable requirements under the CAA and EPCRA. The Consent Decree requires CCI to pay civil penalties totalling $435,000, plus interest, to the United States and the Plaintiff-Intervenor State of Illinois, in three separate installments,the last of which will be due two years after entry of the Consent Decree. Of this amount, CCI will pay $243,931, plus interest, to the United States, and $191,069, plus interest, to the State of Illinois. In addition, the proposed Consent Decree provides for CCI to implement Supplemental Environmental Projects, including the surrender of certain Illinois emission trading credits that CCI received by reducing facility emissions below levels otherwise allowed by law.

The Department of Justice will receive for a period of thirty (30) days from the date of this publication comments relating to the Consent Decree. Comments should be addressed to the Assistant Attorney General, Environment and Natural Resources Division, PO Box 7611, U.S. Department of Justice, Washington, DC 20444-7611, and should refer to United States v. Color Communications, Inc., D.J. Ref. 90-5-2-1-2105.

The Consent Decree may be examined at the Office of the United States Attorney, 219 South Dearborn Street, Chicago, IL 60604, and at U.S. EPA Region 5, 77 West Jackson Boulevard, Chicago, IL 60604. A copy of the Consent Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $5.50 (25 cents per page reproduction cost) payable to the U.S. Treasury.

William D. Brighton,
Assistant Chief, Environmental Enforcement Section, Environment and Natural Resources Division.

[FR Doc. 02-28238 Filed 11-5-02; 8:45 am]

BILLING CODE 4410-15-M